DEPARTMENT OF AGRICULTURE

Submission for OMB Review; Comment Request

September 7, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Perception of Risk, Trust, Responsibility, and Management Preferences Among Fire Prone Communities.

OMB Control Number: 0596-0186.

Summary of Collection: The Forest and Rangeland Renewable Resource Research Act of 1978 (Pub. L. 95-307), direct the Secretary of Agriculture to conduct, support, and cooperate in investigations, experiments, tests, and other activities the Secretary deems necessary to obtain, analyze, develop, demonstrate, and disseminate scientific information about protecting, managing, and utilizing forest and rangeland renewable resources in rural, suburban, and urban areas. Fire risk and the impact of recent fires have been significant on several Western urban-proximate national forests. The Forest Service (FS) is proposing to expand the scope of the initial information collection to other fire-prone communities in the western United States. FS will conduct a study using a questionnaire to gain first-hand information from residents in communities proximate to and surrounded by urban national forests in the Western United States. The information gathered will help resource managers better understand the beliefs, perceptions, and behaviors of those residents.

Need and Use of the Information: The Agency needs to know how residents have been addressing fire risk, residents' beliefs about individual responsibility in reducing fire risk, and the myriad of other concerns residents have related to fire and fire risk. Results from the information collected will be helpful in managing fire education and information programs, continuing public collaboration efforts, and in the selection of fire management and risk mitigation strategies. Other fire management agencies and organizations will also benefit from this knowledge. The information collected will be used to construct a technical report on findings, to prepare journal articles for submission to peer view outlets, for presentations at scientific meetings, and for presentations to natural resource managers as appropriate. Without the information management decisions will be made on limited and anecdotal information regarding public values and perceptions as well as perceived responsibility in management of fire risk.

Description of Respondents: Individuals or households.

Number of Respondents: 300.

Frequency of Responses: Reporting: On occasion.

Total Burden Hours: 435.

Charlene Parker,
Departmental Information Collection Clearance Officer.

[FR Doc. 2011-23294 Filed 9-12-11; 8:45 am]

BILLING CODE 3410-11-P